DEPARTMENT OF TRANSPORTATION

Office of the Secretary

Navigation and Spectrum Policy 2003 Federal Radionavigation Plan

AGENCY: Office of Secretary of Transportation.

ACTION: Notice and request for public comment.

SUMMARY: Under the authority of the National Defense Authorization Act of FY 1998, the Department of Transportation, in conjunction with the Department of Defense, is required to publish a Federal Radionavigation Plan (FRP) not less than every two years. The FRP represents the official United States government policy and plan for common-use (i.e. civil and military) radionavigation systems. The FRP was last published in 2001 by the Department of Defense and the Department of Transportation. The next publication of the document is planned for 2003. When it is signed, a notice will be published in the Federal Register announcing its availability.

Due to the many advances in technology, radionavigation services are now widely used by public, industry, and government sectors alike. Improved services, lowered costs of user equipment, and new benefits have increased the overall user base of radionavigation services. As such, a key goal of the Office of Navigation and Spectrum Policy is to solicit input from all user communities on the desired policy and plan for federally operated common-use radionavigation services. The Department of Transportation encourages all users of radionavigation systems and users of the FRP to submit their comments and inputs for updating the content of the 2001 FRP to reflect the current policy and plan for the 2003 FRP edition.

DATES: Comments must be filed by July 1, 2003. Late-filed comments will be considered to the extent possible.

ADDRESSES: Written comments on the content, format, or scope of the FRP document should be emailed to: FRPinputs@ost.dot.gov Copies of the 2001 FRP can be downloaded free of charge at: http://www.navcen.uscg.gov/pubs/frp2001/default.htm.

FOR FURTHER INFORMATION CONTACT: The Office of the Secretary, Navigation and Spectrum Policy at (202) 366-0353.

Dated: April 7, 2003.
Michael E. Shaw,
Director, Navigation and Spectrum Policy.

[FR Doc. 03-9084 Filed 4-15-03; 8:45 am]

BILLING CODE 4910-62-P